NUCLEAR REGULATORY COMMISSION

[Docket No. 70-7003; NRC-2018-0160]

American Centrifuge Operating, LCC; Lead Cascade Facility

AGENCY: Nuclear Regulatory Commission.

ACTION: Environmental assessment and finding of no significant impact; issuance.

SUMMARY: The U.S. Nuclear Regulatory Commission (NRC) is issuing an environmental assessment (EA) and a finding of no significant impact (FONSI) regarding a request from American Centrifuge Operating, LLC (ACO) for approval of its Decommissioning Plan. ACO is authorized to possess and use special nuclear material (SNM), source material, and byproduct material at its Lead Cascade Facility (LCF) in Piketon, Ohio under NRC License SNM-7003, issued in 2004. ACO's Decommissioning Plan contains its proposed Release Criteria and the Final Status Survey design.

DATES: The EA referenced in this document is available on August 1, 2018.

ADDRESSES: Please refer to Docket ID NRC-2018-0160 when contacting the NRC about the availability of information regarding this document. You may obtain publicly-available information related to this document using any of the following methods:

• Federal Rulemaking Website: Go to http://www.regulations.gov and search for Docket ID NRC-2018-0160. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Jean Trefethen, Office of Nuclear Material Safety and Safeguards, U.S. Nuclear Regulatory Commission, Washington, DC 20555-0001; telephone: 301-415-0867, email: Jean.Trefethen@nrc.gov.

SUPPLEMENTARY INFORMATION:

I. Introduction

By letter dated January 5, 2018 (ADAMS Accession Number ML18025B285), American Centrifuge Operating, LLC (ACO or the licensee) requested NRC approval of ACO's Decommissioning Plan (DP). The DP contains ACO's proposed Release Criteria (RC) and Final Status Survey (FSS) design. The Lead Cascade Facility (LCF) is located at the Portsmouth Gaseous Diffusion Plant (PORTS) site in Pike County, Ohio. The PORTS site is owned by the U.S. Department of Energy (DOE), and the DOE leases portions of the PORTS site, including the LCF buildings, to the licensee. The NRC staff has prepared an Environmental Assessment (EA) (ADAMS Accession Number ML18204A294) as part of its review of this proposed action in accordance with the requirements in part 51 of title 10 of the Code of Federal Regulations (10 CFR), “Environmental Protection Regulations for Domestic Licensing and Related Regulatory Functions” and associated staff guidance. The NRC has concluded that the proposed action will not have a significant effect on the quality of the human environment.

II. Summary of the Environmental Assessment

Description of the Proposed Action

The proposed action is to review and approve ACO's DP which provides the proposed RC and FSS design. The RC are regulatory limits identified in 10 CFR part 20.1402. The FSS is performed by the licensee to verify that residual contamination levels are less than these limits.

Need for the Proposed Action

By letter dated March 2, 2016, the licensee notified the NRC of its decision to permanently cease LCF operations (ADAMS Accession Number ML16074A405). In preparation for decommissioning of the LCF, termination of license SNM-7003, and potential future release of the site and return to DOE as outlined in the lease agreement, ACO has performed clean-up and survey activities.

Environmental Impacts of the Proposed Action

The NRC staff evaluated the potential environmental impacts associated with the proposed action, and has performed its environmental review in accordance with the requirements in 10 CFR part 51 and associated staff guidance. As detailed in the EA, the staff reviewed relevant information submitted by the licensee and consulted with the Ohio State Historic Preservation Office (SHPO), the Osage Nation, Advisory Council on Historic Preservation (ACHP), and the State of Ohio Department of Health (ODH).

Survey activities for the FSS have occurred inside the LCF buildings, and no land disturbance activities were involved or are planned. Therefore, the NRC staff considers that there would be no impacts to the following resources areas: Land use, geology and soils, water resources, ecology, meteorology, climate, air quality, noise, transportation, waste management, visual and scenic resources, and socioeconomic resources.

The NRC staff evaluated the radiological impacts to workers and the public. The staff found that the radiological doses to workers would be within the dose limits specified in 10 CFR 20.1201, “Occupational dose limits to adults,” and that radiological doses to the public would be indistinguishable when compared to background radiation.

The NRC staff also evaluated the cumulative impacts by identifying past, present, and reasonably foreseeable future actions at DOE's Piketon, Ohio site, and the incremental impacts of ACO's proposed action. The staff determined that the proposed action would not significantly contribute to cumulative impacts. The staff also determined that the proposed action would not affect federally-listed endangered or threatened species or their critical habitats, if present.

Environmental Impacts of the Alternatives to the Proposed Action

As an alternative to the proposed action, the staff considered denial of the proposed action and requesting ACO to submit a revised DP (i.e., the “no-action” alternative). Under the no-action alternative, the LCF FSS and RC would not be approved and license termination would not be possible. The NRC considers the environmental impacts of this alternative to be similar to those of the proposed action. The no-action alternative does not comply with the licensee's commitments made during licensing or the decommissioning requirements of 10 CFR 70.38 and does not provide any environmental benefit. The NRC staff concludes that not approving the provided RC and FSS, which meet the regulatory requirements, is not a reasonable alternative to approving the proposed action.

Agencies and Persons Consulted

By letter dated June 12, 2018 (ADAMS Accession Number ML18130A468), the staff consulted with the ODH regarding the environmental impact of the proposed action. By letter dated July 6, 2018, the ODH replied indicating that they had no comments on the draft EA (ADAMS Accession Number ML18130A468). The NRC staff also consulted with the Ohio SHPO by letter dated April 9, 2018 (ADAMS Accession Number. ML18078B230). The Ohio SHPO responded by letter dated May 16, 2018, stating that they could not concur with a finding of No Adverse Effect for the proposed action and recommended that NRC initiate and carry out consultation and contact the ACHP (ADAMS Accession Number ML18155A296). On June 11, 2018, a conference call was held between the Ohio SHPO, the ACHP, and the NRC to discuss the concerns expressed in the SHPO's May 16, 2018, letter. During the call the ACHP expressed its agreement with the NRC that the requested action falls under 36 CFR 800.3(a)(1), No potential to cause effects, which states, “If the undertaking is a type of activity that does not have the potential to cause effects on historic properties, assuming such properties were present, the agency official has no further obligations under Section 106 or this part”. The NRC sent a letter, dated July 16, 2018, to the Ohio SHPO summarizing the conference call and concluding Section 106 consultation (ADAMS Accession Number ML18171A218). By letter dated April 11, 2018, the NRC initiated Section 106 consultation under the National Historic Preservation Act with the Osage Nation. In their reply, the Osage Nation stated it concurred with the NRC determination that the proposed DP most likely would not adversely affect any sacred properties and/or properties of cultural significance to the Nation, and also stated, “[t]he Osage Nation has no further concern with this project” (ADAMS Accession Number ML18158A263).

III. Finding of No Significant Impact

In accordance with the requirements in 10 CFR part 51, the NRC staff has concluded that the proposed action will not significantly affect the quality of the human environment. Therefore, the staff finds, pursuant to 10 CFR 51.31, that preparation of an environmental impact statement is not required for the proposed action, and that a finding of no significant impact is appropriate.

Dated at Rockville, Maryland, this 26th day of July 2018.
For the Nuclear Regulatory Commission.
Craig G. Erlanger,
Director, Division of Fuel Cycle Safety, Safeguards, and Environmental Review, Office of Nuclear Material Safety, and Safeguards.

[FR Doc. 2018-16404 Filed 7-31-18; 8:45 am]

BILLING CODE 7590-01-P